PEACE CORPS

Proposed Information Collection Requests

AGENCY: Peace Corps.

ACTION: Notice of public use form review request to the Office of Management and Budget (OMB Control Number 0420-0529).

SUMMARY: Pursuant to the Paperwork Reduction Act of 1981 (44 U.S.C. Chapter 35), the Peace Corps has submitted to the Office of Management and Budget a request for approval of information collections, OMB Control Number 0420-0529, the Peace Corps Week Brochure Registration Form (formerly called Peace Corps Day Brochure Registration Form). The purpose of this notice is to allow for public comments on whether the proposed collection of information is necessary for the proper performance of the functions of the Peace Corps, including whether their information will have practical use; the accuracy of the agency's estimate of the burden of the proposed collections information, including the validity of the methodology and assumptions used; ways to enhance the quality, utility and the clarity of the information to be collected; and, ways to minimize the burden of the collection of information on those who are to respond, including through the use of automated collection techniques, when appropriate, and other forms of information technology. The initial Federal Register notice was published on May 25, 2007, Volume 72, No. 101, p. 29356 for 60 days. Also available at GPO Access: wais.access.gpo.gov. No comments, inquiries or responses to the notice were received. A copy of the information collection may be obtained from Vivian Nguyen, Office of Domestic Programs, Peace Corps, 1111 20th Street, NW., Room 2121, Washington, DC 20526. Ms. Nguyen may be contacted by telephone at 202-692-1462 or 800-424-8580, Peace Corps Headquarters, ext 1462, by e-mail at vnguyen@peacecorps.gov. Comments on the form should also be addressed to the attention of Ms. Nguyen and should be received on or before August 15, 2007.

Information Collection Abstract

Title: Peace Corps Week Brochure Registration Form.

Need for and use of this information: This collection of information is necessary because the Peace Corps' Office of Domestic Programs builds awareness of the continuing benefits that former Volunteers bring back to the United States after their service through its Coverdell World Wise Schools program, the Fellows/USA graduate fellowship program, Returned Volunteers Services, and through Peace Corps Day. This program is in support of the third goal of the Peace Corps. For more than 10 years, programs and publications have aimed to harness the cross-cultural experiences of returned Peace Corps Volunteers (RPCVs) to foster better global understanding among Americans, and particularly students, throughout the United States. The information is used by the Office of Domestic Programs to send presentation and educational materials to RPCVs, which enhances the quality of the presentations. Information is also used by Public Affairs Specialists to promote Peace Corps Day regionally, broadly raising awareness for the Peace Corps and augmenting recruiting efforts. Parents of currently serving Volunteers may also receive Peace Corps Day packages.

Respondents: Returned Peace Corps Volunteers.

Respondent's obligation to reply: Voluntary.

Dated: July 5, 2007.
Wilbert Bryant,
Associate Director for Management.

[FR Doc. 07-3438 Filed 7-13-07; 8:45 am]

BILLING CODE 6051-01-M